DEPARTMENT OF ENERGY

Federal Energy Regulatory Commission

Combined Notice of Filings #1

Take notice that the Commission received the following electric corporate filings:

Docket Numbers: EC21-25-000.

Applicants: Iberdrola, S.A., Avangrid, Inc., Avangrid Networks, Inc., PNM Resources, Inc., Public Service Company of New Mexico, NMRD Data Center II, LLC, NMRD Data Center III, LLC, New Mexico PPA Corporation.

Description: Application for Authorization Under Section 203 of the Federal Power Act, et al. of Iberdrola, S.A., et al.

Filed Date: 11/23/20.

Accession Number: 20201123-5188.

Comments Due: 5 p.m. ET 1/22/21.

Take notice that the Commission received the following exempt wholesale generator filings:

Docket Numbers: EG21-39-000.

Applicants: Haystack Wind Project, LLC.

Description: Notice of Self-Certification of Exempt Wholesale Generator Status of Haystack Wind Project, LLC.

Filed Date: 11/23/20.

Accession Number: 20201123-5139.

Comments Due: 5 p.m. ET 12/14/20.

Take notice that the Commission received the following electric rate filings:

Docket Numbers: ER10-3028-006.

Applicants: Elk Hills Power, LLC.

Description: Notice of Non-Material Change in Status of Elk Hills Power, LLC.

Filed Date: 11/23/20.

Accession Number: 20201123-5192.

Comments Due: 5 p.m. ET 12/14/20.

Docket Numbers: ER17-996-005.

Applicants: New York Independent System Operator, Inc.

Description: Compliance filing: Compliance re: Remove state program text from Offer Floor calculations of SCRs to be effective 10/7/2020.

Filed Date: 11/23/20.

Accession Number: 20201123-5080.

Comments Due: 5 p.m. ET 12/14/20.

Docket Numbers: ER19-1492-002.

Applicants: Wisconsin Electric Power Company.

Description: Compliance filing: Settlement Compliance Filing—PIPP Retirement to be effective 5/29/2019.

Filed Date: 11/23/20.

Accession Number: 20201123-5107.

Comments Due: 5 p.m. ET 12/14/20.

Docket Numbers: ER20-1719-002.

Applicants: PPL Electric Utilities Corporation, PJM Interconnection, L.L.C.

Description: Compliance filing: PPL Electric submits Deficiency Response to Compliance in ER20-1719 re Order 864 to be effective N/A.

Filed Date: 11/24/20.

Accession Number: 20201124-5038.

Comments Due: 5 p.m. ET 12/15/20.

Docket Numbers: ER20-1877-002.

Applicants: PJM Interconnection, L.L.C.

Description: Tariff Amendment: Suppl. & Amendment: Rev. ISA, SA#3601 & ICSA, SA#5630; Queue No. V3-028/AB2-170 to be effective 4/22/2020.

Filed Date: 11/24/20.

Accession Number: 20201124-5036.

Comments Due: 5 p.m. ET 12/15/20.

Docket Numbers: ER21-460-000.

Applicants: PJM Interconnection, L.L.C.

Description: Compliance filing: Compliance in Docket No. EL20-56 to be effective 11/23/2020.

Filed Date: 11/23/20.

Accession Number: 20201123-5102.

Comments Due: 5 p.m. ET 12/14/20.

Docket Numbers: ER21-461-000.

Applicants: El Paso Electric Company.

Description: § 205(d) Rate Filing: Service Agreement No. 346, EPE-La Mesa PV I LLC SGIA to be effective11/23/2020.

Filed Date: 11/23/20.

Accession Number: 20201123-5112.

Comments Due: 5 p.m. ET 12/14/20.

Docket Numbers: ER21-462-000.

Applicants: PJM Interconnection, L.L.C.

Description: § 205(d) Rate Filing: Original ISA, Service Agreement No. 5846; Queue No. AB2-133 to be effective 10/22/2020.

Filed Date: 11/23/20.

Accession Number: 20201123-5117.

Comments Due: 5 p.m. ET 12/14/20.

Docket Numbers: ER21-463-000.

Applicants: Old Dominion Electric Cooperative, Inc.

Description: Request for Limited Waiver of Old Dominion Electric Cooperative.

Filed Date: 11/23/20.

Accession Number: 20201123-5190.

Comments Due: 5 p.m. ET 12/14/20.

Docket Numbers: ER21-464-000.

Applicants: New York Independent System Operator, Inc., Niagara Mohawk Power Corporation.

Description: § 205(d) Rate Filing: SGIA (SA 2571) among NYISO, National Grid and Martin Rd Solar to be effective 11/16/2020.

Filed Date: 11/24/20.

Accession Number: 20201124-5023.

Comments Due: 5 p.m. ET 12/15/20.

Docket Numbers: ER21-465-000.

Applicants: New York Independent System Operator, Inc., Niagara Mohawk Power Corporation.

Description: § 205(d) Rate Filing: SGIA (SA 2572) among NYISO, National Grid, and Bakerstand Solar, LLC to be effective 11/16/2020.

Filed Date: 11/24/20.

Accession Number: 20201124-5026.

Comments Due: 5 p.m. ET 12/15/20.

Docket Numbers: ER21-466-000.

Applicants: Southwest Power Pool, Inc.

Description: § 205(d) Rate Filing: 2415R13 Kansas Municipal Energy Agency NITSA and NOA to be effective 9/1/2020.

Filed Date: 11/24/20.

Accession Number: 20201124-5030.

Comments Due: 5 p.m. ET 12/15/20.

Docket Numbers: ER21-467-000.

Applicants: Southwest Power Pool, Inc.

Description: § 205(d) Rate Filing: 2562R8 Kansas Municipal Energy Agency NITSA and NOA to be effective 9/1/2020.

Filed Date: 11/24/20.

Accession Number: 20201124-5034.

Comments Due: 5 p.m. ET 12/15/20.

Docket Numbers: ER21-468-000.

Applicants: Midcontinent Independent System Operator, Inc.

Description: § 205(d) Rate Filing: 2020-11-24_SA 3375 Entergy Arkansas-Searcy Solar 1st Rev GIA (J893 S1000) to be effective 11/12/2020.

Filed Date: 11/24/20.

Accession Number: 20201124-5035.

Comments Due: 5 p.m. ET 12/15/20.

Docket Numbers: ER21-469-000.

Applicants: Southwest Power Pool, Inc.

Description: § 205(d) Rate Filing: 2900R14 KMEA NITSA NOA to be effective 9/1/2020.

Filed Date: 11/24/20.

Accession Number: 20201124-5039.

Comments Due: 5 p.m. ET 12/15/20.

Docket Numbers: ER21-470-000.

Applicants: Southwest Power Pool, Inc.

Description: § 205(d) Rate Filing: 3675R1 Doniphan Electric Cooperative Assn, Inc. NITSA NOA to be effective9/1/2020.

Filed Date: 11/24/20.

Accession Number: 20201124-5041.

Comments Due: 5 p.m. ET 12/15/20.

Docket Numbers: ER21-471-000.

Applicants: Midcontinent Independent System Operator, Inc.

Description: § 205(d) Rate Filing: 2020-11-24_SA 3576 MDU-Emmons Logan Wind FSA (J302 J503) to be effective 1/24/2021.

Filed Date: 11/24/20.

Accession Number: 20201124-5047.

Comments Due: 5 p.m. ET 12/15/20.

Docket Numbers: ER21-472-000.

Applicants: PacifiCorp.

Description: § 205(d) Rate Filing: Tri-State, Empire Const Agmt at Pinto to be effective 1/24/2021.

Filed Date: 11/24/20.

Accession Number: 20201124-5089.

Comments Due: 5 p.m. ET 12/15/20.

Docket Numbers: ER21-473-000.

Applicants: PJM Interconnection, L.L.C.

Description: § 205(d) Rate Filing: Original ISA No. 5849; Queue No. AE2-131 to be effective 10/28/2020.

Filed Date: 11/24/20.

Accession Number: 20201124-5091.

Comments Due: 5 p.m. ET 12/15/20.

Docket Numbers: ER21-474-000.

Applicants: New York Independent System Operator, Inc., Niagara Mohawk Power Corporation.

Description: § 205(d) Rate Filing: SGIA Among the NYISO, National Grid, and Sky High Solar to be effective 11/16/2020.

Filed Date: 11/24/20.

Accession Number: 20201124-5097.

Comments Due: 5 p.m. ET 12/15/20.

Docket Numbers: ER21-475-000.

Applicants: PacifiCorp.

Description: § 205(d) Rate Filing: Tri-State, Empire Interconnect Agmt at Pinto to be effective 1/24/2021.

Filed Date: 11/24/20.

Accession Number: 20201124-5099.

Comments Due: 5 p.m. ET 12/15/20.

Docket Numbers: ER21-476-000.

Applicants: Georgia Power Company.

Description: § 205(d) Rate Filing: GPCo 2020 PBOP Filing to be effective 1/1/2020.

Filed Date: 11/24/20.

Accession Number: 20201124-5104.

Comments Due: 5 p.m. ET 12/15/20.

Docket Numbers: ER21-477-000.

Applicants: Mississippi Power Company.

Description: § 205(d) Rate Filing: PBOP 2020 Filing to be effective 1/1/2020.

Filed Date: 11/24/20.

Accession Number: 20201124-5105.

Comments Due: 5 p.m. ET 12/15/20.

Docket Numbers: ER21-478-000.

Applicants: Southern Electric Generating Company.

Description: § 205(d) Rate Filing: SEGCo 2020 PBOP Filing to be effective 1/1/2020.

Filed Date: 11/24/20.

Accession Number: 20201124-5107.

Comments Due: 5 p.m. ET 12/15/20.

Docket Numbers: ER21-479-000.

Applicants: Alabama Power Company.

Description: Initial rate filing: Nassau Solar Affected System Upgrade Agreement Filing to be effective 10/27/2020.

Filed Date: 11/24/20.

Accession Number: 20201124-5126.

Comments Due: 5 p.m. ET 12/15/20.

Docket Numbers: ER21-480-000.

Applicants: Georgia Power Company.

Description: Initial rate filing: Nassau Solar Affected System Upgrade Agreement Filing to be effective 10/27/2020.

Filed Date: 11/24/20.

Accession Number: 20201124-5127.

Comments Due: 5 p.m. ET 12/15/20.

Docket Numbers: ER21-481-000.

Applicants: Mississippi Power Company.

Description: Initial rate filing: Nassau Solar Affected System Upgrade Agreement Filing to be effective 10/27/2020.

Filed Date: 11/24/20.

Accession Number: 20201124-5130.

Comments Due: 5 p.m. ET 12/15/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 24, 2020.
Nathaniel J. Davis, Sr.,
Deputy Secretary.

[FR Doc. 2020-26445 Filed 11-30-20; 8:45 am]

BILLING CODE 6717-01-P